DEPARTMENT OF TRANSPORTATION

Federal Transit Administration

[FTA Docket No. FTA-2014- 0022]

Agency Information Collection Activity Under OMB Review

AGENCY: Federal Transit Administration, DOT.

ACTION: Notice of request for comments.

SUMMARY: The Federal Transit Administration invites public comment about its intention to request the Office of Management and Budget's (OMB) approval to renew the following information collection:

Bus Testing Program

The information collected is necessary to determine eligibility of applicants and ensure the proper and timely expenditure of federal funds within the scope of the program. The Federal Register notice with a 60-day comment period soliciting comments for the Bus Testing Program was published on June 10, 2014 (Citation 79 FR 11). No comments were received from that notice.

DATES: Comments must be submitted before September 22, 2014. A comment to OMB is most effective, if OMB receives it within 30 days of publication.

FOR FURTHER INFORMATION CONTACT: Tia Swain, Office of Administration, Office of Management Planning, (202) 366-0354.

SUPPLEMENTARY INFORMATION:

Title: Bus Testing Program.

(OMB Number: 2132-0550).

Abstract: This collection involves FTA's Bus Testing Program. The information to be collected for the Bus Testing Program is necessary to ensure that buses have been tested at the Bus Testing Center for maintainability, reliability, safety, performance (including breaking performance), structural integrity, fuel economy, emissions, and noise before federal funds can be obligated or expended for the acquisition of a new bus model (including any model using alternative fuels).

Estimated Total Annual Burden: 210 hours.

ADDRESSES: All written comments must refer to the docket number that appears at the top of this document and be submitted to the Office of Information and Regulatory Affairs, Office of Management and Budget, 725—17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Susan Camarena,
Acting Deputy Associate Administrator for Administration.

[FR Doc. 2014-20006 Filed 8-21-14; 8:45 am]

BILLING CODE 4910-57-P